DEPARTMENT OF TRANSPORTATION

Federal Aviation Administration

14 CFR Part 71

[Docket No. FAA-2016-9264; Airspace Docket No. 16-AWP-1]

RIN 2120-AA66

Proposed Establishment, Modification and Revocation of Air Traffic Service (ATS) Routes; Western United States

AGENCY: Federal Aviation Administration (FAA), DOT.

ACTION: Notice of proposed rulemaking (NPRM).

SUMMARY: This action proposes to modify three jet routes and four VHF Omnidirectional Range (VOR) Federal airways; remove two VOR Federal Airway routes, and establish four and modify four low altitude Area Navigation (RNAV) routes (T-routes) in the western United States. The FAA is proposing this action due to the scheduled decommissioning of the Manteca, CA, and Maxwell, CA, VOR facilities, which provide navigation guidance for portions of the affected routes. This action would enhance the safety and management of aircraft within these routes in the National Airspace System (NAS).

DATES: Comments must be received on or before February 21, 2017.

ADDRESSES: Send comments on this proposal to the U.S. Department of Transportation, Docket Operations, 1200 New Jersey Avenue SE., West Building Ground Floor, Room W12-140, Washington, DC 20590; telephone: 1(800) 617-5527, or (202) 366-9826. You must identify FAA Docket No. FAA-2016-9264 and Airspace Docket No. 16-AWP-1 at the beginning of your comments. You may also submit comments through the Internet at http://www.regulations.gov.

FAA Order 7400.11A, Airspace Designations and Reporting Points, and subsequent amendments can be viewed online at http://www.faa.gov/air_traffic/publications/. For further information, you can contact the Airspace Policy Group, Federal Aviation Administration, 800 Independence Avenue SW., Washington, DC, 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Kenneth Ready, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2016-9264 and Airspace Docket No. 16-AWP-1) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2016-9264, and Airspace Docket No. 16-AWP-1.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the Internet at http://www.regulations.gov. Recently published rulemaking documents can also be accessed through the FAA's Web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Western Service Center, Operations Support Group, Federal Aviation Administration, 1601 Lind Ave. SW., Renton, WA 98057.

Availability and Summary of Documents for Incorporation by Reference

This document proposes to amend FAA Order 7400.11A, airspace Designations and Reporting Points, dated August 3, 2016, and effective September 15, 2016. FAA Order 7400.11A is publicly available as listed in the ADDRESSES section of this document. FAA Order 7400.11A lists Class A, B, C, D, and E airspace areas, air traffic service routes, and reporting points.

Background

The Manteca, CA VOR (ECA) is being decommissioned due to encroachment of obstructions causing radials to become unreliable and/or unusable. The Maxwell, CA VOR (MXW) is being decommissioned due to the owner requesting the FAA vacate the land so he can develop it. A determination has been made to permanently decommission both facilities as they already are on the list of VORs planned for discontinuance based on the Notice Of Policy “Provision of Navigation Services for the Next Generation Air Transportation System (NextGen) Transition to Performance-Based Navigation (PBN) Plan for Establishing a VOR Minimum Operational Network”, published July 26, 2016 (81 FR 48694). As a result, the ATS routes that utilize the ECA and MXW VOR facilities must be amended. The affected routes are: Jet route J-58, J-80, J-94; VOR Federal airways V-87, V-109, V-113, V-195, V-244, V-585; and RNAV T-routes T-257, T-259, T-261, T-263. Additionally, the FAA would establish four new RNAV T-routes: T-298, T-329, T-331, and T-333. With the decommissioning of the ECA and MXW VOR facilities, ground-based navigation aid (NAVAID) coverage would be insufficient to enable the continuity of all the airways. Therefore, the proposed modifications to Jet routes J-58, J-80, J-94; and VOR Federal airways V-87, V-109, V-113, V-195, V-244, V-585 would result in a gap in the route structures. To overcome the gaps created in the route structures, air traffic control would either provide radar vectoring or reroute affected aircraft to the new RNAV T-routes established in this proposal.

The Proposal

The FAA is proposing an amendment to Title 14, Code of Federal Regulations (14 CFR) part 71 to amend Jet routes J-58, J-80, J-94; VOR Federal airways V-87, V-113, V-195, V-244; and RNAV T-routes T-257, T-259, T-261, T-263. Additionally, the FAA will establish 4 new Area Navigation T-routes T-298, T-329, T-331, and T-333. The FAA also proposes to remove VOR Federal airway V-109, V-585. The scheduled decommissioning of the ECA and MXW VOR facilities has made this proposed action necessary.

The proposed route changes are outlined below.

J-58: J-58 currently extends between Oakland, CA (OAK) and Harvey, LA (HRV). The FAA proposes to eliminate the segment of the route west of Coaldale, NV (OAL) from Oakland to Coaldale via Manteca. The unaffected portion of the existing route will remain as charted.

J-80: J-80 currently extends between Oakland, CA (OAK) and Bellaire, OH (AIR). The FAA proposes to eliminate the segment of the route west of Coaldale, NV (OAL) from Oakland to Coaldale via Manteca. The unaffected portion of the existing route will remain as charted.

J-94: J-94 currently extends between Oakland, CA (OAK) and Flint, MI (FNT). The FAA proposes to eliminate the segment of the route west of Mustang, NV (FMG) from Oakland to Mustang. The unaffected portion of the existing route will remain as charted.;

V-87: V-87 currently extends between Panoche, CA (PXN) and Red Bluff, CA (RBL). The FAA proposes to end the route at Scaggs Island, CA (SGD) thereby eliminating the segment north of Scaggs Island, CA (SGD) to Red Bluff, CA. The unaffected portion of the existing route will remain as charted.

V-109: V-109 currently extends from Panoche, CA to Oakland CA. The FAA proposes to remove this route.

V-113: V-113 currently extends between Morro Bay, CA (MQO) and Lewistown, MT (LWT). The FAA proposes to eliminate the Manteca, CA segment between Panoche, CA (PXN) and Linden, CA (LIN). The unaffected portions of the existing route will remain as charted in the two remaining segments.

V-195: V-195 currently extends between Manteca, CA (ECA) and Fortuna, CA, (FOT). The FAA proposes to eliminate the part of the route east of Oakland, CA (OAK) from Manteca to Oakland. The unaffected portion of the existing route will remain as charted.

V-244: V-244 currently extends between the intersection of the Oakland, CA (OAK) 077° and Manteca, CA (ECA) 267° radials to Salina, KS (SLN). The beginning portion of the route that was west of Coaldale, NV (OAL) would now be charted from Linden, CA (LIN) to Coaldale, NV (OAL). The unaffected portion of the existing route will remain as charted.

V-585: V-585 currently extends from Clovis, CA to Sacramento, CA. The FAA proposes to remove this route.

T-257: T-257 currently extends between Big Sur, CA (BSR) to Point Reyes, CA (PYE). The FAA proposes to reroute the route from Ventura, CA (VTU) to Tatoosh, WA (TOU). This route would provide separation from the SERFR arrival, a new optimized profile descent into San Francisco, CA (SFO). The current T-257 route also crosses the SFO and Oakland, CA (OAK) departure corridor and aircraft are not allowed to navigate via this route. Currently, aircraft that file for route T-257 are taken off the route upon talking with Northern California Approach Control to separate both the SFO arrivals and SFO/OAK departures. Northern California TRACON (NCT) has received multiple requests to amend this route so pilots will be allowed to fly from points south to the wine country airports. Added utility to this route was gained by extending the route south and north. To the south, the route splits the Special Activity Areas by routing the airway off the coastline, then extending inland over Morro Bay, CA (MQO) terminating at Ventura CA (VTU). To the north, the airway would be extended along the Oregon and Washington coast to Tatoosh CA (TOU) providing easy jump off points into airports with Standard Instrument Approach procedures.

T-259: T-259 currently extends between San Jose, CA (SJC) to Sacramento, CA (SAC). The FAA proposes to reroute the route from Lake Hughes, CA (LHS) to Ely, NV (ELY). This T-route would overlay the vector routes Northern California TRACON (NCT) utilizes to get aircraft in and out of south bay airports [San Jose, CA (SJC), Ried-Hillview, CA (RHV), Pala Alto, CA (PAO), Moffett Federal Airfield, CA (NUQ)] that are destined for or arriving from the northeast. The route would also extend to the TRUCK instrument approach fix for Tahoe airports, which are common destinations during the winter months. The existing location of T-259 is not utilized as it conflicts with East Bay arrivals.

T-261: T-261 currently extends between Woodside, CA (OSI) and the ALTAM waypoint. The FAA proposes to amend the route from Santa Catalina, CA (SXC) to JSTEN waypoint. This route would avoid ORRCA, a highly congested intersection. Aircraft routed via route T-261 today are taken off the airway to avoid conflicts over ORRCA. The route was also extended to the north of Northern California TRACON (NCT) airspace to separate from the TUDOR arrival into Sacramento International Airport, CA (SMF). Added utility was added by extending the route north through eastern Oregon and Washington State east of the Cascade mountain range.

T-263: T-263 currently extends between the SUNOL waypoint and Scaggs Island, CA (SGD). The FAA proposes a new route to begin at Fillmore, CA (FIM) to ELWHA waypoint. This proposed route was developed to the south beginning at Fillmore, CA (FIM) so it can tie into T-329 and other VOR federal airways to continue IFR to airports south or into the Fresno, CA, complex. This would provide a route clear of the SFO Class Bravo while servicing the central valley and wine country airports.

T-298: The FAA proposes to establish T-298 between Oakland, CA (OAK) and Crazy Woman, WY (CZI).

T-329: The FAA proposes to establish T-329 between Morro Bay, CA (MQO) and NACKI, CA waypoint.

T-331: The FAA proposes to establish T-331 between NTELL, CA waypoint and FONIA, ND FIX.

T-333: The FAA proposes to establish T-333 between KLIDE, CA fix and TIPRE, CA waypoint.

The navigation aid radials cited in the proposed route descriptions, below, are unchanged from the existing routes and stated relative to True north.

Jet routes are published in paragraph 2004, VOR Federal airways are published in paragraph 6010(a), United States Area Navigation Routes (T-Routes) are published in paragraph 6011, respectively, of FAA Order 7400.11A dated August 3, 2016, and effective September 15, 2016, which is incorporated by reference in 14 CFR 71.1. The Jet routes, VOR Federal airways and United States Area Navigation Routes (T-Routes) listed in this document will be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016 and effective September 15, 2016, is amended as follows:

Paragraph 2004 Jet Routes.

J-58 [Amended]

From Coaldale, NV; Wilson Creek, NV; Milford, UT; Rattlesnake, NM; Fort Union, NM; Panhandle, TX; Wichita Falls, TX; Ranger, TX; Alexandria, LA; to Harvey, LA.

* * * * *

J-80 [Amended]

From Coaldale, NV; Wilson Creek, NV; Milford, UT; Grand Junction, CO; Red Table, CO; Falcon, CO; Goodland, KS; Hill City, KS; Kansa City, MO; Spinner, IL; Brickyard, IN; to Bellaire, OH.

* * * * *

J-94 [Amended]

From Mustang, NV; Lovelock, NV; Battle Mountain, NV; Lucin, UT; Rock Springs, WY; Scottsbluff, NE; O'Neill, NE; Fort Dodge, IA; Dubuque, IA; Northbrook, IL; Pullman, MI; to Flint, MI.

* * * * *

Paragraph 6010 Domestic VOR Federal Airways.

V-87 [Amended]

From Panoche, CA; INT Panoche 245° and Salinas, CA, 100° radials; Salinas; INT Salinas 310° and Woodside, CA, 158° radials; Woodside; San Francisco, CA; INT San Francisco 359° and Scaggs Island, CA, 182° radials; to Scaggs Island, CA.

* * * * *

V-109 [Removed]

* * * * *

V-113 [Amended]

From Morro Bay, CA; Paso Robles, CA; Priest, CA; to Panoche, CA. From Linden, CA; INT Linden 046 °and Mustang, NV, 208° radials; Mustang; 42 miles, 24 miles, 115 MSL, 95 MSL, Sod House, NV; 67 miles, 95 MSL, 85 MSL, Rome, OR; 61 miles, 85 MSL, Boise, ID; Salmon, ID; Coppertown, MT; Helena, MT; to Lewistown, MT.

* * * * *

V-195 [Amended]

From Oakland, CA; INT Oakland 004° and Williams, CA, 191° radials; Williams; INT Williams 002° and Red Bluff, CA, 158° radials; Red Bluff; to Fortuna, CA.

* * * * *

V-244 [Amended]

From Linden, CA; Coaldale, NV; Tonopah, NV; 40 miles, 115 MSL, Wilson Creek, NV; 28 miles, 115 MSL, Milford, UT; Hanksville, UT; 63 miles, 13 miles, 140 MSL, 36 miles, 115 MSL, Montrose, CO; Blue Mesa, CO; 33 miles, 122 MSL, 27 miles, 155 MSL, Pueblo, CO; 18 miles, 48 miles, 60 MSL, Lamar, CO; 20 miles, 116 miles, 65 MSL, Hays, KS; to Salina, KS.

* * * * *

V-585 [Removed]

* * * * *

Paragraph 6011 United States Area Navigation Routes.

T-257 Ventura, CA (VTU) to Tatoosh, WA (TOU) [Amended]
Ventura, CA (VTU) | VOR/DME | (Lat. 34°06′54.21″ N., long. 119°02′58.17″ W.)
San Marcus, CA (RZS) | VORTAC | (Lat. 34°30′34.32″ N., long. 119°46′15.57″ W.)
Morro Bay, CA (MQO) | VORTAC | (Lat. 35°15′08.12″ N., long. 120°45′34.44″ W.)
BLANC, CA | FIX | (Lat. 35°37′53.19″ N., long. 121°21′23.04″ W.)
CAATE, CA | WP | (Lat. 36°46′32.29″ N., long. 122°04′09.57″ W.)
CHAWZ, CA | WP | (Lat. 37°06′48.59″ N., long. 122°21′09.58″ W.)
PORTE, CA | FIX | (Lat. 37°29′23.23″ N., long. 122°28′28.48″ W.)
THHEO, CA | WP | (Lat. 37°44′54.55″ N., long. 122°36′54.79″ W.)
JAMIN, CA | WP | (Lat. 37°51′16.99″ N., long. 122°40′12.05″ W.)
Point Reyes, CA (PYE) | VORTAC | (Lat. 38°04′47.12″ N., long. 122°52′04.18″ W.)
FREES, CA | FIX | (Lat. 38°23′38.47″ N., long. 122°55′33.24″ W.)
NACKI, CA | WP | (Lat. 38°43′47.73″ N., long. 123°05′52.93″ W.)
Mendocino, CA (ENI) | VORTAC | (Lat. 39°03′11.58″ N., long. 123°16′27.58″ W.)
FLUEN, CA | FIX | (Lat. 39°32′47.92″ N., long. 123°33′42.75″ W.)
PLYAT, CA | FIX | (Lat. 40°20′20.90″ N., long. 123°41′35.88″ W.)
CCHUK, CA | WP | (Lat. 40°31′42.18″ N., long. 124°04′16.08″ W.)
SCUPY, CA | WP | (Lat. 40°55′23.94″ N., long. 124°18′09.85″ W.)
OLJEK, CA | FIX | (Lat. 41°28′30.66″ N., long. 124°14′20.68″ W.)
CIGCA, CA | WP | (Lat. 41°36′39.60″ N., long. 124°17′27.58″ W.)
FURNS, CA | WP | (Lat. 41°55′15.86″ N., long. 124°26′09.40″ W.)
MITUE, OR | FIX | (Lat. 43°18′49.00″ N., long. 124°30′22.74″ W.)
JANAS, OR | FIX | (Lat. 44°17′33.63″ N., long. 124°05′14.25″ W.)
Newport, OR (ONP) | VORTAC | (Lat. 44°34′31.26″ N., long. 124°03′38.14″ W.)
CUTEL, OR | FIX | (Lat. 44°54′27.50″ N., long. 124°01′25.30″ W.)
ILWAC, WA | FIX | (Lat. 46°19′46.62″ N., long. 124°10′49.49″ W.)
ZEDAT, WA | FIX | (Lat. 46°35′50.64″ N., long. 124°10′01.14″ W.)
WAVLU, WA | FIX | (Lat. 46°50′00.90″ N., long. 124°06′35.70″ W.)
Hoquiam, WA (HQM) | VORTAC | (Lat. 46°56′49.35″ N., long. 124°08′57.37″ W.)
COPLS, WA | WP | (Lat. 47°06′46.78″ N., long. 124°07′40.80″ W.)
WAPTO, WA | FIX | (Lat. 47°28′19.54″ N., long. 124°13′50.38″ W.)
OZETT, WA | WP | (Lat. 48°03′07.00″ N., long. 124°35′54.42″ W.)
Tatoosh, WA (TOU) | VORTAC | (Lat. 48°17′59.64″ N., long. 124°37′37.36″ W.)
* * * * * *
T-259 Lake Hughes, CA (LHS) to Ely, NV (ELY) [Amended]
Lake Hughes, CA (LHS) | VORTAC | (Lat. 34°40′58.70″ N., long. 118°34′36.98″ W.)
Shafter, CA (EHF) | VORTAC | (Lat. 35°29′04.40″ N., long. 119°05′50.27″ W.)
Avenal, CA (AVE) | VOR/DME | (Lat. 35°38′49.11″ N., long. 119°58′42.98″ W.)
MBARI, CA | WP | (Lat. 36°01′37.09″ N., long. 120°34′38.27″ W.)
LKHRN, CA | WP | (Lat. 36°05′59.82″ N., long. 120°45′22.53″ W.)
Salinas, CA (SNS) | VORTAC | (Lat. 36°39′49.81″ N., long. 121°36′11.47″ W.)
CAATE, CA | WP | (Lat. 36°46′32.29″ N., long. 122°04′09.57″ W.)
SANTY, CA | FIX | (Lat. 36°58′45.26″ N., long. 122°04′23.07″ W.)
SAPID, CA | FIX | (Lat. 37°11′28.73″ N., long. 122°10′47.00″ W.)
CRTER, CA | WP | (Lat. 37°27′09.35″ N., long. 121°50′28.62″ W.)
MOVDD, CA | FIX | (Lat. 37°39′40.88″ N., long. 121°26′53.53″ W.)
OXJEF, CA | WP | (Lat. 37°46′11.40″ N., long. 121°02′03.31″ W.)
SAAGO, CA | WP | (Lat. 37°51′19.01″ N., long. 120°05′09.54″ W.)
BNAKI, CA | WP | (Lat. 37°53′25.61″ N., long. 119°40′02.43″ W.)
WEXIM, CA | WP | (Lat. 37°59′12.54″ N., long. 119°14′15.57″ W.)
NIKOL, CA | FIX | (Lat. 37°58′02.88″ N., long. 118°40′57.19″ W.)
DAYMN, NV | WP | (Lat. 38°59′19.00″ N., long. 115°51′00.00″ W.)
Ely, NV (ELY) | VOR/DME | (Lat. 39°17′53.25″ N., long. 114°50′53.90″ W.)
* * * * * *
T-261 Santa Catalina, CA (SXC), to JSTEN, WA [Amended]
Santa Catalina, CA (SXC) | VORTAC | (Lat. 33°22′30.20″ N., long. 118°25′11.68″ W.)
Gaviota, CA (GVO) | VORTAC | (Lat. 34°31′52.75″ N., long. 120°05′27.92″ W.)
Morro Bay, CA (MQO) | VORTAC | (Lat. 35°15′08.12″ N., long. 120°45′34.44″ W.)
CLMNS, CA | FIX | (Lat. 35°24′45.26″ N., long. 121°09′45.91″ W.)
HRRNG, CA | WP | (Lat. 35°37′39.24″ N., long. 121°25′19.36″ W.)
HMPBK, CA | WP | (Lat. 36°03′16.11″ N., long. 121°45′05.32″ W.)
WOZZZ, CA | WP | (Lat. 36°13′59.12″ N., long. 121°48′24.46″ W.)
Salinas, CA (SNS) | VORTAC | (Lat. 36°39′49.81″ N., long. 121°36′11.47″ W.)
WINDY, CA | FIX | (Lat. 37°17′36.96″ N., long. 121°11′00.75″ W.)
MOVDD, CA | FIX | (Lat. 37°39′40.88″ N., long. 121°26′53.53″ W.)
GIFME, CA | WP | (Lat. 38°12′02.39″ N., long. 121°35′11.42″ W.)
GRIDD, CA | FIX | (Lat. 39°19′38.69″ N., long. 121°50′07.50″ W.)
GONGS, CA | FIX | (Lat. 39°44′36.22″ N., long. 122°03′01.33″ W.)
HOMAN, CA | FIX | (Lat. 40°24′17.88″ N., long. 122°07′44.68″ W.)
GARSA, CA | FIX | (Lat. 40°42′05.61″ N., long. 122°01′26.87″ W.)
CCAPS, CA | WP | (Lat. 41°28′40.20″ N., long. 121°48′51.96″ W.)
MUREX, CA | FIX | (Lat. 41°52′11.03″ N., long. 121°44′02.93″ W.)
MIXUP, OR | FIX | (Lat. 42°31′07.79″ N., long. 121°59′49.66″ W.)
Deschutes, OR (DSD) | VORTAC | (Lat. 44°15′09.95″ N., long. 121°18′12.69″ W.)
CUPRI, OR | FIX | (Lat. 44°37′03.76″ N., long. 121°15′13.89″ W.)
SUPOC, OR | WP | (Lat. 44°54′05.94″ N., long. 120°58′53.25″ W.)
KUKTE, OR | FIX | (Lat. 45°19′55.95″ N., long. 121°09′17.29″ W.)
SUNSN, WA | WP | (Lat. 45°57′09.59″ N., long. 120°38′38.03″ W.)
MUDLE, WA | FIX | (Lat. 46°23′38.69″ N., long. 120°34′53.38″ W.)
Yakima, WA (YKM) | VORTAC | (Lat. 46°34′12.87″ N., long. 120°26′40.69″ W.)
SELAH, WA | FIX | (Lat. 46°42′03.01″ N., long. 120°32′59.48″ W.)
GEBTE, WA | FIX | (Lat. 46°51′39.01″ N., long. 120°30′17.18″ W.)
QUINT, WA | FIX | (Lat. 47°12′50.29″ N., long. 119°54′31.59″ W.)
PAWYO, WA | WP | (Lat. 48°10′04.08″ N., long. 119°29′30.00″ W.)
HVARD, WA | WP | (Lat. 48°17′32.75″ N., long. 119°30′16.09″ W.)
SOFFE, WA | WP | (Lat. 48°41′41.31″ N., long. 119°29′21.93″ W.)
JSTEN, WA | WP | (Lat. 48°57′50.34″ N., long. 119°26′15.47″ W.)
* * * * * *
T-263 Fillmore, CA (FIM) to ELWHA, WA [Amended]
Fillmore, CA (FIM) | VORTAC | (Lat. 34°21′24.10″ N., long. 118°52′52.65″ W.)
Avenal, CA (AVE) | VOR/DME | (Lat. 35°38′49.11″ N., long. 119°58′42.98″ W.)
Panoche, CA (PXN) | VORTAC | (Lat. 36°42′55.65″ N., long. 120°46′43.26″ W.)
WINDY, CA | FIX | (Lat. 37°17′36.96″ N., long. 121°11′00.75″ W.)
MOVDD, CA | FIX | (Lat. 37°39′40.88″ N., long. 121°26′53.53″ W.)
RBLEW, CA | WP | (Lat. 37°53′49.80″ N., long. 121°30′30.31″ W.)
PITTS, CA | FIX | (Lat. 38°02′59.59″ N., long. 121°53′28.90″ W.)
Scaggs Island, CA (SGD) | VORTAC | (Lat. 38°10′45.70″ N., long. 122°22′23.35″ W.)
POPES, CA | FIX | (Lat. 38°29′09.41″ N., long. 122°20′45.16″ W.)
DIBLE, CA | FIX | (Lat. 40°13′22.13″ N., long. 122°17′43.51″ W.)
KENDL, CA | FIX | (Lat. 40°27′20.50″ N., long. 122°23′04.50″ W.)
FOLDS, CA | FIX | (Lat. 40°44′16.56″ N., long. 122°30′10.69″ W.)
HOMEG, CA | WP | (Lat. 41°20′09.00″ N., long. 122°51′05.00″ W.)
ZUNAS, CA | FIX | (Lat. 41°51′34.17″ N., long. 122°50′54.37″ W.)
TALEM, OR | FIX | (Lat. 42°08′49.70″ N., long. 122°52′41.50″ W.)
OREGN, OR | WP | (Lat. 42°50′22.63″ N., long. 123°31′55.53″ W.)
EROWY, OR | WP | (Lat. 43°03′20.67″ N., long. 123°30′02.52″ W.)
NOTTI, OR | FIX | (Lat. 44°03′23.13″ N., long. 123°27′29.76″ W.)
Corvallis, OR (CVO) | VOR/DME | (Lat. 44°29′58.45″ N., long. 123°17′37.21″ W.)
ARTTY, OR | FIX | (Lat. 45°00′00.00″ N., long. 123°04′28.96″ W.)
Newberg, OR (UBG) | VOR/DME | (Lat. 45°21′11.62″ N., long. 122°58′41.37″ W.)
LOATH, OR | FIX | (Lat. 46°00′41.95″ N., long. 123°03′39.04″ W.)
WINLO, WA | FIX | (Lat. 46°27′27.26″ N., long. 123°06′03.90″ W.)
ULESS, WA | FIX | (Lat. 47°07′54.58″ N., long. 123°28′12.15″ W.)
ARRIE, WA | FIX | (Lat. 47°52′47.61″ N., long. 123°28′33.00″ W.)
ELWHA, WA | WP | (Lat. 48°08′55.11″ N., long. 123°40′15.06″ W.)
* * * * * *
T-298 Oakland, CA (OAK) to Crazy Woman, WY (CZI) [New]
Oakland, CA (OAK) | VORTAC | (Lat. 37°43′33.32″ N., long. 122°13′24.91″ W.)
ALTAM, CA | FIX | (Lat. 37°48′43.82″ N., long. 121°44′49.54″ W.)
ORANG, CA | FIX | (Lat. 37°59′00.43″ N., long. 121°15′50.95″ W.)
ELKHN, CA | WP | (Lat. 38°09′24.47″ N., long. 120°22′23.46″ W.)
NIKOL, CA | FIX | (Lat. 37°58′02.88″ N., long. 118°40′57.19″ W.)
Coaldale, NV (OAL) | VORTAC | (Lat. 38°00′11.74″ N., long. 117°46′13.61″ W.)
KATTS, NV | WP | (Lat. 38°20′00.00″ N., long. 116°20′00.00″ W.)
KITTN, NV | WP | (Lat. 38°19′44.23″ N., long. 114°57′41.27″ W.)
Wilson Creek, NV (ILC) | VORTAC | (Lat. 38°15′00.69″ N., long. 114°23′39.22″ W.)
Milford, UT, (MLF) | VORTAC | (Lat. 38°21′37.28″ N., long. 113°00′47.64″ W.)
DETAN, UT | FIX | (Lat. 38°22′22.30″ N., long. 112°37′46.69″ W.)
EBOVE, UT | WP | (Lat. 39°02′44.32″ N., long. 111°46′24.18″ W.)
Carbon, UT (PUC) | VOR/DME | (Lat. 39°36′11.49″ N., long. 110°45′12.70″ W.)
Myton, UT (MTU) | VOR/DME | (Lat. 40°08′56.74″ N., long. 110°07′37.30″ W.)
Rock Springs, WY (OCS) | VOR/DME | (Lat. 41°35′24.76″ N., long. 109°00′55.18″ W.)
DORTN, WY | WP | (Lat. 43°02′36.63″ N., long. 107°13′03.27″ W.)
Crazy Woman, WY (CZI) | VOR/DME | (Lat. 43°59′59.02″ N., long. 106°26′08.63″ W.)
* * * * * *
T-329 Morro Bay, CA (MQO) to NACKI, CA [New]
Morro Bay, CA (MQO) | VORTAC | (Lat. 35°15′08.12″ N., long. 120°45′34.44″ W.)
Paso Robles, CA (PRB) | VORTAC | (Lat. 35°40′20.87″ N., long. 120°37′37.59″ W.)
LKHRN, CA | WP | (Lat. 36°05′59.82″ N., long. 120°45′22.53″ W.)
Panoche, CA (PXN) | VORTAC | (Lat. 36°42′55.65″ N., long. 120°46′43.26″ W.)
MKNNA, CA | WP | (Lat. 37°04′23.41″ N., long. 120°50′22.26″ W.)
OXJEF, CA | WP | (Lat. 37°46′11.40″ N., long. 121°02′03.31″ W.)
TIPRE, CA | WP | (Lat. 38°12′21.00″ N., long. 121°02′09.00″ W.)
HNNRY, CA | WP | (Lat. 38°23′27.61″ N., long. 121°37′43.50″ W.)
ROWWN, CA | WP | (Lat. 38°24′55.86″ N., long. 121°47′00.05″ W.)
RAGGS, CA | FIX | (Lat. 38°28′34.94″ N., long. 122°09′24.65″ W.)
POPES, CA | FIX | (Lat. 38°29′09.41″ N., long. 122°20′45.16″ W.)
NACKI, CA | WP | (Lat. 38°43′47.73″ N., long. 123°05′52.93″ W.)
* * * * * *
T-331 NTELL, CA to FONIA, ND [New]
NTELL, CA | WP | (Lat. 36°53′58.99″ N., long. 119°53′22.21″ W.)
KARNN, CA | FIX | (Lat. 37°09′03.79″ N., long. 121°16′45.22″ W.)
VINCO, CA | FIX | (Lat. 37°22′35.11″ N., long. 121°42′59.52″ W.)
NORCL, CA | WP | (Lat. 37°31′02.66″ N., long. 121°43′10.60″ W.)
MOVDD, CA | FIX | (Lat. 37°39′40.88″ N., long. 121°26′53.53″ W.)
EVETT, CA | WP | (Lat. 38°00′36.11″ N., long. 121°07′48.14″ W.)
TIPRE, CA | WP | (Lat. 38°12′21.00″ N., long. 121°02′09.00″ W.)
ESSOH, CA | WP | (Lat. 38°43′11.37″ N., long. 120°38′10.87″ W.)
Squaw Valley, CA (SWR) | VOR/DME | (Lat. 39°10′49.16″ N., long. 120°16′10.60″ W.)
TRUCK, CA | FIX | (Lat. 39°26′15.67″ N., long. 120°09′42.48″ W.)
Mustang, NV (FMG) | VORTAC | (Lat. 39°31′52.55″ N., long. 119°39′21.86″ W.)
HIXUP, NV | WP | (Lat. 39°58′08.32″ N., long. 118°51′52.25″ W.)
Lovelock, NV (LLC) | VORTAC | (Lat. 40°07′30.95″ N., long. 118°34′39.34″ W.)
CUTVA, NV | FIX | (Lat. 40°23′27.16″ N., long. 117°35′59.79″ W.)
Battle Mountain, NV (BAM) | VORTAC | (Lat. 40°34′08.69″ N., long. 116°55′20.12″ W.)
PARZZ, NV | WP | (Lat. 41°36′14.64″ N., long. 115°02′09.69″ W.)
TULIE, ID | WP | (Lat. 42°37′58.49″ N., long. 113°06′44.54″ W.)
AMFAL, ID | WP | (Lat. 42°45′56.67″ N., long. 112°50′04.64″ W.)
Pocatello, ID (PIH) | VOR/DME | (Lat. 42°52′13.38″ N., long. 112°39′08.05″ W.)
VIPUC, ID | WP | (Lat. 43°21′09.64″ N., long. 112°14′44.08″ W.)
Idaho Falls, ID (IDA) | VOR/DME | (Lat. 43°31′08.42″ N., long. 112°03′50.10″ W.)
SABAT, ID | FIX | (Lat. 44°00′59.71″ N., long. 111°39′55.04″ W.)
WAHNZ, ID | WP | (Lat. 44°17′15.61″ N., long. 111°13′32.75″ W.)
SPECT, MT | WP | (Lat. 45°20′00.37″ N., long. 109°27′47.95″ W.)
Billings, MT (BIL) | VORTAC | (Lat. 45°48′30.81″ N., long. 108°37′28.73″ W.)
TRUED, MT | WP | (Lat. 46°08′27.38″ N., long. 107°54′36.55″ W.)
EXADE, MT | FIX | (Lat. 47°35′56.78″ N., long. 104°32′40.61″ W.)
JEKOK, MT | WP | (Lat. 47°59′31.05″ N., long. 103°27′17.51″ W.)
FONIA, ND | FIX | (Lat. 48°15′35.07″ N., long. 103°10′37.54″ W.)
* * * * * *
T-333 KLIDE, CA to TIPRE, CA [New]
KLIDE, CA | FIX | (Lat. 37°09′51.03″ N., long. 121°42′46.98″ W.)
BORED, CA | FIX | (Lat. 37°18′34.16″ N., long. 121°27′48.06″ W.)
SMONE, CA | WP | (Lat. 37°32′10.45″ N., long. 121°21′30.65″ W.)
TIPRE, CA | WP | (Lat. 38°12′21.00″ N., long. 121°02′09.00″ W.)

Issued in Washington, DC, on December 28, 2016.
M. Randy Willis,
Acting Manager, Airspace Policy Group.

[FR Doc. 2016-31818 Filed 1-4-17; 8:45 am]

BILLING CODE 4910-13-P